NATIONAL CREDIT UNION ADMINISTRATION

Sunshine Act; Notice of Agency Meeting

TIME AND DATE: 10:00 a.m., Thursday, October 24, 2013.

PLACE: Board Room, 7th Floor, Room 7047, 1775 Duke Street (All visitors must use Diagonal Road Entrance), Alexandria, VA 22314-3428.

STATUS: Open.

MATTERS TO BE CONSIDERED: 1. Board Briefing, Interagency Rule, NCUA's Rules and Regulations, Loans in Areas Having Special Flood Hazards.

2. Quarterly National Credit Union Share Insurance Fund Report.

3. NCUA's Rules and Regulations, Electronic Filing of Financial Reports.

4. NCUA's Rules and Regulations, Liquidity and Contingency Funding Plans.

5. NCUA's Rules and Regulations, Credit Union Capital Planning and Stress Testing.

RECESS: 11:30 a.m.

TIME AND DATE: 11:45 a.m., Thursday, October 24, 2013.

PLACE: Board Room, 7th Floor, Room 7047, 1775 Duke Street, Alexandria, VA 22314-3428.

STATUS: Closed.

MATTERS TO BE CONSIDERED: 1. Request under Section 205(d) of the Federal Credit Union Act. Closed pursuant to exemption (6).

2. Request under Section 205(d) of the Federal Credit Union Act. Closed pursuant to exemption (6).

FOR FURTHER INFORMATION CONTACT: Gerard Poliquin, Secretary of the Board, Telephone: 703-518-6304.

Gerard Poliquin,
Secretary of the Board.

[FR Doc. 2013-24650 Filed 10-17-13; 4:15 pm]

BILLING CODE 7535-01-P